SECURITIES AND EXCHANGE COMMISSION

Agency Meetings

Notice is hereby given, pursuant to the provisions of the Government in the Sunshine Act, Pub. L. 94-409, that the Securities and Exchange Commission will hold the following meetings during the week of June 26, 2000.

An open meeting will be held on Tuesday, June 27, 2000 at 10 a.m. in Room 1C30.

Commissioner Hunt, as duty officer, determined that no earlier notice thereof was possible.

The subject matter of the open meeting scheduled for Tuesday, June 27, 2000 will be:

The Commission will consider whether to propose rule amendments to its auditor independence requirements. The proposals are intended to modernize the Commission's regulations regarding:

(1) Investments by auditors or their family members in audit clients;

(2) Employment relationships between auditors or their family members and audit clients; and

(3) The scope of services provided by audit firms to their audit clients.

In addition, the rules would require companies to disclose in their annual proxy statements certain information about non-audit services provided by their auditors during the last fiscal year.

For further information, please contact John Morrissey or W. Scott Bayless at (202) 942-4400.

A closed meeting will be held on Wednesday, June 28, 2000 at 11 a.m.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(4), (8), (9)(A) and (10) and 17 CFR 200.402(a)(4), (8), (9)(A) and (10), permit consideration for the scheduled matters at the closed meeting.

The subject matters of the closed meeting scheduled for Wednesday, June 28, 2000 will be:

Institution and settlement of injunctive actions; and

Institution and settlement of administrative proceedings of an enforcement nature.

At times, changes in Commission priorities require alterations in the scheduling of meeting items. For further information and to ascertain what, if any, matters have been added, deleted or postponed, please contact:

The Office of the Secretary at (202) 942-7070.

Dated: June 21, 2000.
Jonathan G. Katz,
Secretary.

[FR Doc. 00-16057 Filed 6-21-00; 12:25 pm]

BILLING CODE 8010-01-M